DEPARTMENT OF AGRICULTURE

Forest Service,

Olympic Provincial Interagency Executive Committee (PIEC), Advisory Committee

AGENCY: Forest Service, USDA.

ACTION: Notice of meeting.

SUMMARY: The Olympic PIEC Advisory Committee will meet on February 18, 2000. The meeting will be held at the Jamestown S'Klallam Tribal Center's conference room, 1033 Oly Blyn Highway, Sequim, Washington. The meeting will begin at 10:00 AM and end at approximately 3:00 PM. Agenda topics are: (1) Road Management Strategy for the Olympic National Forest (a proposed strategy for review and advice); (2) Northwest Forest Plan Implementation Monitoring Report; (3) Open forum; and (4) Public comments. All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd. Olympia, WA 98512-5623, (360) 956-2323 or Dale Hom, Forest Supervisor, at (360) 956-2301.

Dated: January 19, 2000.
Luis Santoyo,
Acting Forest Supervisor, Olympic National Forest.

[FR Doc. 00-1975 Filed 1-26-00; 8:45 am]

BILLING CODE 3410-11-M